DEPARTMENT OF ENERGY

Federal Energy Regulatory Commission

[Project No. 2376-052]

Eagle Creek Reusens Hydro, LLC; Notice Soliciting Scoping Comments

Take notice that the following hydroelectric application has been filed with the Commission and is available for public inspection.

a. Type of Application: New Major License.

b. Project No.: 2376-052.

c. Date Filed: February 28, 2022.

d. Applicant: Eagle Creek Reusens Hydro, LLC (Reusens Hydro).

e. Name of Project: Reusens Hydroelectric Project.

f. Location: The project is located on the James River in Bedford and Amherst Counties, Virginia.

g. Filed Pursuant to: Federal Power Act 16 U.S.C. 791(a)-825(r).

h. Applicant Contact: Ms. Joyce Foster, Director, Licensing and Compliance Eagle Creek Renewable Energy, LLC, 7315 Wisconsin Avenue, Suite 1100W, Bethesda, MD 20814; Phone at (804) 338-5110 or email at Joyce.Foster@eaglecreekre.co; and Ms. Jody Smet, Vice President, Regulatory Affairs, Eagle Creek Renewable Energy, LLC, 7315 Wisconsin Ave., Suite 1100W, Bethesda, MD 20814; Phone at (240) 482-2700 or email at jody.smet@eaglecreekre.com.

i. FERC Contact: Laurie Bauer at (202) 502-6519, or laurie.bauer@ferc.gov.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Reusens Hydroelectric Project (P-2376-052).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing but is not ready for environmental analysis at this time.

l. The Reusens Project consists of: (1) a 24-foot-high, 416-foot-long concrete dam and spillway containing eight 16.75-foot-high, 44-foot-wide floodgates/spillway gates; (2) a 25-foot-high, 125.67-foot-long concrete curved auxiliary spillway topped with flashboards; (3) a 500-acre impoundment with a gross storage capacity of 6,869 acre-feet at the normal pool elevation of 550.7 feet; (4) an intake section of Powerhouse A containing three inlet bays, each with three 6.83-foot-wide, 17.92-foot-high steel, concrete, and timber gates; (5) an intake section of Powerhouse B containing two inlet bays, each with three 6.67-foot-wide, 17.5-foot-high timber gates; (6) a 105.5-foot-long, 83-foot-wide, 86-foot-high steel frame, concrete and brick Powerhouse A containing three vertical Francis turbine-generator units with a total installed capacity of 7.5 megawatts (MW); (7) a 55-foot-long, 27-foot-wide, 84-foot-high steel frame, concrete and brick Powerhouse B containing two vertical Francis turbine-generator units with a total installed capacity of 5 MW; (8) a 100-foot-wide, 250-foot-long tailrace below Powerhouse A; (9) a 60-foot-wide, 50-foot-long tailrace below Powerhouse B; (10) a 280-foot-long transmission line connecting to three 5,210 kilovolt-ampere 4/34.5-kilovolt step-up transformers, which are connected to the grid via a 24-foot-long overhead line; and (11) appurtenant facilities.

The Reusens Project operates in a peaking mode with an average annual generation of 22,504 megawatt-hours between 2018 and 2021.

m. A copy of the application is available for review via the internet through the Commission's Home Page (http://www.ferc.gov), using the “eLibrary” link. Enter the docket number, excluding the last three digits in the docket number field, to access the document. For assistance, contact FERC at FERCOnlineSupport@ferc.gov or call toll free, (886) 208-3676 or TTY (202) 502-8659.

You may also register online at https://ferconline.ferc.gov/FERCOnline.aspx to be notified via email of new filings and issuances related to this or other pending projects. For assistance, contact FERC Online Support.

n. The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

o. Scoping Process: Pursuant to the National Environmental Policy Act (NEPA), Commission staff intends to prepare either an environmental assessment (EA) or an environmental impact statement (EIS) (collectively referred to as the “NEPA document”) that describes and evaluates the probable effects, including an assessment of the site-specific and cumulative effects, if any, of the proposed action and alternatives. The Commission's scoping process will help determine the required level of analysis and satisfy the NEPA scoping requirements, irrespective of whether the Commission issues an EA or an EIS. At this time, we do not anticipate holding an on-site scoping meeting. Instead, we are soliciting written comments and suggestions on the preliminary list of issues and alternatives to be addressed in the NEPA document, as described in scoping document 1 (SD1), issued February 26, 2025.

Copies of SD1 outlining the subject areas to be addressed in the NEPA document were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: February 26, 2025.
Debbie-Anne A. Reese,
Secretary.

[FR Doc. 2025-03494 Filed 3-4-25; 8:45 am]

BILLING CODE 6717-01-P